DEPARTMENT OF ENERGY

Federal Energy Regulatory Commission

[Project No. 18-063]

Idaho Power Company; Notice of Availability of Environmental Assessment

May 9, 2001.

In accordance with the National Environmental Policy Act of 1969 and the Federal Energy Regulatory Commission's (Commission) regulations, 18 CFR Part 380 (Order No. 486, 52 FR 47910), the Office of Energy Projects has reviewed Idaho Power Company's application for license amendment to waive for 1 year the aesthetic flow requirements at the Twin Falls Hydroelectric Project, located on the Snake River in Twin Falls and Jerome Counties, Idaho, and has prepared an Environmental Assessment (EA). The project includes about 93 acres of federal land administered by the Bureau of Land Management.

The EA contains the staff's analysis of the potential environmental impacts of the proposed amendment and concludes that approval of the proposed amendment with staff's modifications would not constitute a major federal action that would significantly affect the quality of the human environment.

The EA is attached to a Commission order issued on May 8, 2001 for the above application. Copies of the EA are available for review at the Commission's Public Reference Room, located at 888 First Street, NE., Washington, DC 20426, or by calling (202) 208-1371. the EA may be viewed on the web at http://www.ferc.fed.us/online/rims.htm (call (202) 208-2222 for assistance).

For further information, contact John Smith at (202) 219-2460.

David P. Boergers,
Secretary.

[FR Doc. 01-12150 Filed 5-14-01; 8:45 am]

BILLING CODE 6717-01-M